DEPARTMENT OF COMMERCE

National Oceanic and Atmospheric Administration

[I.D. 022404B]

Gulf of Mexico Fishery Management Council; Public Meeting

AGENCY: National Marine Fisheries Service (NMFS), National Oceanic and Atmospheric Administration (NOAA), Commerce.

ACTION: Notice of public meeting.

SUMMARY: The Gulf of Mexico Fishery Management Council will convene a public meeting of the Law Enforcement Advisory Panel (LEAP).

DATES: This meeting will be held on Tuesday, March 16, 2004 from 1 p.m. to 5 p.m.

ADDRESSES: This meeting will be held at the Holiday Inn Chateau LeMoyne, 301 Rue Dauphine, New Orleans, LA 70112; telephone: 1-800-747-3279.

Council address: Gulf of Mexico Fishery Management Council, 3018 North U.S. Highway 301, Suite 1000, Tampa, FL 33619.

FOR FURTHER INFORMATION CONTACT: Richard Leard, Senior Fishery Biologist, Gulf of Mexico Fishery Management Council; telephone: 813-228-2815.

SUPPLEMENTARY INFORMATION: The LEAP will convene to review possible changes to the NMFS 2005 commercial shark fishing seasons. The LEAP will also review scoping documents that would potentially limit access in the commercial king mackerel and reef fish fisheries to replace the existing moratoria. A scoping document that would potentially allow marine aquaculture will also be reviewed along with a scoping document to potentially extend the existing moratorium on the issuance of new charter vessel permits. The LEAP will also review draft amendments that would establish rebuilding plans for red snapper and vermilion snapper in the Gulf, and scoping options for a variety of management measures pertaining to the Coastal Migratory Pelagics Fishery Management Plan.

The LEAP consists of principal law enforcement officers in each of the Gulf states as well as NMFS, the U.S. Coast Guard, and NOAA General Counsel. A copy of the agenda and related materials can be obtained by calling the Council office at 813-228-2815.

Although other non-emergency issues not on the agendas may come before the LEAP for discussion, in accordance with the Magnuson-Stevens Fishery Conservation and Management Act (Magnuson-Stevens Act), those issues may not be the subject of formal action during this meetings. Actions of the LEAP will be restricted to those issues specifically identified in the agenda and any issues arising after publication of this notice that require emergency action under Section 305(c) of the Magnuson-Stevens Act, provided the public has been notified of the Council's intent to take action to address the emergency.

Special Accommodations

This meeting is physically accessible to people with disabilities. Requests for sign language interpretation or other auxiliary aids should be directed to Trish Kennedy at the Council (see ADDRESSES) by March 9, 2004.

Dated: February 25, 2004.
Peter H. Fricke,
Acting Director, Office of Sustainable Fisheries, National Marine Fisheries Service.

[FR Doc. 04-4607 Filed 3-1-04; 8:45 am]

BILLING CODE 3510-22-S